ENVIRONMENTAL PROTECTION AGENCY

[EPA-HQ-OPP-2017-0467; FRL-9976-98]

Product Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1 and Table 2 of Unit II, pursuant to the Federal Insecticide, Fungicide, and Rodenticide Act (FIFRA). This cancellation order follows an October 3, 2017 Federal Register Notice of Receipt of Requests from the registrants listed in Table 3 of Unit II to voluntarily cancel and amend to terminate uses of these product registrations. In the October 3, 2017 notice, EPA indicated that it would issue an order implementing the cancellations and amendments to terminate uses, unless the Agency received substantive comments within the 180-day comment period that would merit its further review of these requests, or unless the registrants withdrew their requests. The Agency received 5 anonymous public comments on the notice but none merited its further review of the requests. Further, the registrants did not withdraw their requests. Accordingly, EPA hereby issues in this notice a cancellation order granting the requested cancellations and amendments to terminate uses. Any distribution, sale, or use of the products subject to this cancellation order is permitted only in accordance with the terms of this order, including any existing stocks provisions.

DATES: The cancellations and amendments are applicable June 1, 2018.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2017-0467, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellations and amendments to terminate uses, as requested by registrants, of products registered under FIFRA section 3 (7 U.S.C. 136a).

These registrations are listed in sequence by registration number in Tables 1 and 2 of this unit.

Table 1—Product Cancellations
Registration No. | Company No. | Product name | Active ingredient
53883-370 | 53883 | Quali-Pro Oxadiazon 50 WSB | Oxadiazon.
CA-130009 | 91606 | Aspergillus Flavus AF36 | Aspergillus flavus strain AF36.
WY-080010 | 8033 | Assail 70WP Insecticide | Acetamiprid.

Table 2—Product Registration Amendments to Terminate Uses
Registration No. | Company No. | Product name | Active ingredient | Uses to be terminated
2724-404 | 2724 | Zoecon RF-322 Ovicidal Pump Spray | MGK 264; Piperonyl butoxide; Pyrethrins; & S-Methoprene | Use on horses.
49620-2 | 49620 | EKA SC-R | Sodium chlorate | Defoliants/desiccants applied to: Agricultural drainage systems, beans (dried type), corn, cotton, fallow land, flax, guar, peas (Southern), peppers (chili type), potatoes, rice, safflower, sorghum, soybeans, sunflowers, wheat; and as an herbicide applied to nonagricultural settings (commercial, industrial, and residential).
49620-6 | 49620 | EKA SC-R Aqueous | Sodium chlorate | Defoliants/desiccants applied to: Agricultural drainage systems, beans (dried type), corn, cotton, fallow land, flax, guar, peas (Southern), peppers (chili type), potatoes, rice, safflower, sorghum, soybeans, sunflowers, wheat; and as an herbicide applied to nonagricultural settings (commercial, industrial, and residential).

Table 3 of this unit includes the names and addresses of record for all registrants of the products in Table 1 and Table 2 of this unit, in sequence by EPA company number. This number corresponds to the first part of the EPA registration numbers of the products listed in Table 1 and Table 2 of this unit.

Table 3—Registrants of Cancelled and Amended Products
EPA company No. | Company name and address
2724 | Wellmark International, 1501 E. Woodfield Road, Suite 200 West, Schaumburg, IL 60173.
8033 | Nippon Soda Co., Ltd., Agent Name: Nisso America, Inc., 88 Pine Street, 14th Floor, New York, NY 10005.
49620 | Akzo Nobel Pulp and Performance Chemicals, Inc., Agent Name: Keller and Heckman, LLP, 1001 G Street NW, Suite 500 West, Washington, DC 20001.
53883 | Control Solutions, Inc., 5903 Genoa Red Bluff Road, Pasadena, TX 77507.
91606 | California Cattlemen's Association Feeder Council, 1221 H Street, Sacramento, CA 95814.

III. Summary of Public Comments Received and Agency Response to Comments

During the public comment period provided EPA received 5 anonymous public comments. The Agency does not believe that the comments submitted during the comment period merits further review or the denial of the requests for the voluntary cancellations of products listed in Table 1 of Unit II or the requests for the amendments to terminate uses in Table 2 of Unit II.

IV. Cancellation Order

Pursuant to FIFRA section 6(f) (7 U.S.C. 136d(f)(1)), EPA hereby approves the requested cancellations and amendments to terminate uses of the registrations identified in Tables 1 and 2 of Unit II. Accordingly, the Agency hereby orders that the product registrations identified in Tables 1 and 2 of Unit II are canceled and amended to terminate the affected uses. The effective date of the cancellations that are subject of this notice is June 1, 2018. Any distribution, sale, or use of existing stocks of the products identified in Tables 1 and 2 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of October 3, 2017 (82 FR 46050) (FRL-9966-87). The comment period closed on April 2, 2018.

VI. Provisions for Disposition of Existing Stocks

Existing stocks are those stocks of registered pesticide products which are currently in the United States and which were packaged, labeled, and released for shipment prior to the effective date of the action. The existing stocks provision for the products subject to this order is as follows.

A. For Product 53883-370

The registrant has requested to the Agency via letter to distribute existing stocks for an 18-month period for products 53883-370.

For all other voluntary product cancellations identified in Table 1 of Unit II, registrants will be permitted to sell and distribute existing stocks of voluntarily canceled products for 1 year after the effective date of the cancellation, which will be the date of publication of the cancellation order in the Federal Register. Thereafter, registrants will be prohibited from selling or distributing the products identified in Table 1 of Unit II, except for export consistent with FIFRA section 17 (7 U.S.C. 136o) or for proper disposal.

Now that EPA has approved product labels reflecting the requested amendments to terminate uses for the products listed in Table 2 of Unit II, registrants are permitted to sell or distribute the products listed in Table 2 of Unit II, under the previously approved labeling until December 2, 2019, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: May 3, 2018.
Delores Barber,
Director, Information Technology and Resources Management Division, Office of Pesticide Programs.

[FR Doc. 2018-11755 Filed 5-31-18; 8:45 am]

BILLING CODE 6560-50-P